DEPARTMENT OF JUSTICE

U.S. Marshals Service

Notice of Intent To Prepare a Draft Environmental Impact Statement

AGENCY: U.S. Marshals Service, Department of Justice.

ACTION: Notice of Intent to Prepare a Draft Environmental Impact Statement.

SUMMARY: Notice of Intent to Prepare a Draft Environmental Impact Statement (DEIS) for development of a contract detention facility to house persons in the custody of the U.S. Department of Justice. The contract detention facility is proposed to be located within a 50-mile radius of the U.S. Courthouse located at 1300 Victoria in Laredo, Texas.

Background

The United States Marshals Service (USMS) is the nation's oldest and most versatile federal law enforcement agency. Created by the Judiciary Act of 1789, the same legislation that established the federal judicial system, the USMS has served the nation through a variety of vital law enforcement activities. The Director, Deputy Director and 94 U.S. Marshals (appointed by the President or the Attorney General) direct the activities of 95 district offices and personnel stationed at more than 350 locations throughout the 50 states and U.S. territories. The USMS occupies a uniquely central position in the federal justice system and is involved in virtually every federal law enforcement initiative. Approximately 4,000 Deputy Marshals and career employees perform a variety of nationwide, day-to-day missions.

During the past decade, the federal detainee population has experienced unprecedented growth as a result of expanded federal law enforcement initiatives and resources. The detainee population has increased by almost 1,000 percent, from approximately 4,000 in 1981 to over 45,000 today. These prisoners are being housed in a combination of local, state, federal and private facilities around the country. However, the growth in the detainee population is occurring at the same time that available space in local jails is decreasing. Local jail space is increasingly needed to house local offenders, leaving less space available for the contractual accommodation of federal detainees. These trends are projected to continue for the foreseeable future and present a major challenge for federal agencies such as the USMS to house detainees.

Faced with severe shortages in state and local bed space, especially in major metropolitan areas (federal court cities), as well as court-ordered caps on prisoner populations, the USMS is finding it increasingly difficulty to local bedspace in state and local jails that have traditionally been used to house federal prisoners. Consequently, the USMS periodically contracts with the private sector for detention services or must house detainees farther and farther from their respective federal court cities. The resultant long-distance movement of federal detainees requires substantial amounts of USMS time and resources, and strains the Justice Prisoner and Alien Transportation System to its limit.

Proposed Action

The USMS has determined that there is a need to house up to 2,800 federal detainees within the Laredo, Texas area. The high level of USMS and U.S. Department of Homeland Security activity in the southwestern United States in general and Texas in particular requires more beds than are readily available in local or state facilities. The USMS has a particular need for detention facilities to be located near federal courthouses because of its responsibility to detain those individuals accused of violating federal laws.

In response to this need, the USMS is seeking to contract with a private detention contractor to provide a contractor-owned and operated facility capable of housing 2,800 detained individuals charged with federal offenses and while awaiting trial or sentencing. Eight prospective contract detention facility sites within a 50-mile radius of the U.S. Courthouse located at 1300 Victoria, Laredo, Texas have been offered to the USMS for consideration. The eight sites are described as follows:

• Killam Property—East of I-35 and north of Laredo in Webb County, Texas.

• San Rafael Property—West of I-35 and south of Laredo in Webb County, Texas.

• Las Blancas Subdivision Property—North of State Highway 359 and east of Laredo in Webb County, Texas.

• Pinto Valle Industrial Park Property—East of Farm-to-Market Road 1472 and northwest of Laredo in Webb County, Texas.

• Riata/Laredo Property—North of State Highway 359 and east of Laredo in Webb County, Texas.

• Valley Boulevard/Highway 83 Property—West of State Highway 83 and south of Laredo, in Webb County, Texas.

• Webb County Detention Center Property—West of State Highway 83 and south of Laredo in Webb County, Texas.

• Encinal Property—East of I-35, south of State Highway 44 and east of the City of Encinal in La Salle County, Texas.

All sites offered will be evaluated by USMS in a DEIS that will analyze the potential impacts of detention facility construction and operation at the prospective sites.

The Process

In the process of evaluating prospective sites, many factors and features will be analyzed including, but not limited to: topography, geology/soils, hydrology, biological resources, utility services, transportation services, cultural resources, land uses, socio-economics, hazardous materials, air and noise quality, among others.

Alternatives

In developing the DEIS, the No Action alternative and alternative sites for the proposed contract detention facility will be examined.

Scoping Process

During the preparation of the DEIS, there will be opportunities for public involvement in order to determine the issues to be examined. Public Scoping Meetings will be held in and around communities under consideration for development of the contract detention facility at times, dates and at locations to be determined. The meeting locations, dates, and times will be well publicized and will be arranged to allow for the public as well as interested agencies and organizations to attend and formally express their views on the scope and significant issues to be studied as part of the DEIS process. The Scoping Meetings are also being held to provide for timely public comments and understanding of federal plans and programs with possible environmental consequences as required by the National Environmental Policy Act of 1969, as amended, and the National Historic Preservation Act of 1966, as amended.

Availability of DEIS

Public notice will be given concerning the availability of the DEIS for public review and comment.

Contact

Questions concerning the proposed action and the DEIS may be directed to: Karin E. Eddy, Contract Specialist, U.S. Department of Justice—United States Marshals Service, Headquarters Contracts Office, C.S. #3, Room 927, Washington, DC 20530-1000, Telephone: 202-353-8348/Facsimile: 202-307-9695.

Dated: September 2, 2003.
Thomas J. McCafferty,
Contracting Officer, United States Marshals Service.

[FR Doc. 03-24170 Filed 9-23-03; 8:45 am]

BILLING CODE 4410-04-M